ENVIRONMENTAL PROTECTION AGENCY

40 CFR Part 62

[IN139-1b; FRL-7155-4]

Approval and Promulgation of Implementation Plans; Indiana

AGENCY: Environmental Protection Agency (EPA).

ACTION: Proposed rule.

SUMMARY: The EPA is proposing to approve, through direct final procedure, a negative declaration submitted by the State of Indiana which indicates there is no need for regulations covering existing Small Municipal Waste Combustors (MWC) in the State. The State's negative declaration regarding this category of sources was submitted in letters dated November 7, 2001, and December 3, 2001, and was based on a systematic search of the State's internal data bases. The intent of the State's action is to satisfy a Federal requirement to develop a plan to control emissions from small MWCs or to declare there are no sources of this type in the State.

In the Final Rules section of this Federal Register, EPA is approving the State's negative declaration request as a direct final rule without prior proposal because EPA views this action as noncontroversial and anticipates no adverse comments. The rationale for approval is set forth in the direct final rule. If no written adverse comments are received in response to the direct final rule, no further activity is contemplated in relation to this proposed rule. If EPA receives meaningful written adverse comments, the direct final rule will be withdrawn and all public comments received will be addressed in a subsequent final rule based on this proposed rule. If no adverse written comments are received, the direct final rule will take effect on the date stated in that document and no further activity will be taken on this proposed rule. Any party interested in commenting on this negative declaration should do so at this time.

DATES: Comments on this action must be received by April 8, 2002.

ADDRESSES: Written comments should be mailed to: J. Elmer Bortzer, Chief, Regulation Development Section, Air Programs Branch (AR-18J), USEPA, Region 5, 77 West Jackson Boulevard, Chicago, Illinois 60604. A copy of the State's negative declaration request is available for inspection at the above address.

FOR FURTHER INFORMATION CONTACT: John Paskevicz, Environmental Engineer, Regulation Development Section, Air Programs Branch (AR-18J), USEPA, Region 5, 77 West Jackson Boulevard, Chicago, Illinois 60604, (312) 886-6084.

SUPPLEMENTARY INFORMATION: Throughout this document whenever “we,” “us,” or “our” are used we mean the EPA.

I. What Actions Are EPA Taking Today?

II. Where Can I Find More Information About This Proposal and Corresponding Direct Final Rule?

I. What Actions Are EPA Taking Today?

The EPA is proposing to approve a negative declaration submitted by the State of Indiana which indicates there is no need for regulations to control emissions from small Minicipal Waste Combustors in the State. The State performed an analysis which shows that there are no small MWCs in Indiana.

II. Where Can I Find More Information About This Proposal and Corresponding Direct Final Rule?

For additional information see the direct final rule published in the rules section of this Federal Register.

Authority: 42 U.S.C. 4201-7601q.

Dated: February 28, 2002.
Norman Niedergang,
Acting Regional Administrator, Region 5.

[FR Doc. 02-5599 Filed 3-7-02; 8:45 am]

BILLING CODE 6560-50-P